DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of March, 2002.

In order for an affirmative determination to be made and a certification of eligibility to apply for worker adjustment assistance to be issued, each of the group eligibility requirements of Section 222 of the Act must be met:

(1) That a significant number or proportion of the workers in the workers' firm, or an appropriate subdivision thereof, have become totally or partially separated,

(2) That sales or production, or both, of the firm or subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-40,157 & A; The Steel Group, The Steel Co., Chicago, IL and Midwest Annealing and Processing Corp., East Chicago, IN

TA-W-40,436 & A; Dometic Corp., Awning Line, LAGrange, IN

TA-W-39,747; Precision Flame, Inc., Bourbonnais, IL

TA-W-40,672; Trio Dyeing and Finishing Co., Inc., Paterson, NJ

TA-W-40,453; Penley Corp., West Paris, ME

In the following cases, the investigation revealed that the criteria for eligibility have not been met for the reasons specified.

Increased imports did not contribute importantly to worker separations at the firm.

TA-W-40,773; S-B Power Tool Co., Walnut Ridge, AR

TA-W-40,720 & A; Rohm Device USA LLC, 760 Kifer Road, Sunnyvale, CA, Rohm Device USA LLC, 760 Kifer Road, Sunnyvale, CA and Rohm Device USA LLC, 611 N. Pastoria Avenue, Sunnyvale, CA

TA-W-40,550; Nokia, Inc., Nokia Networks, Product Operation, Fort Worth, TX

The workers firm does not produce an article as required for certification under Section 222 of the Trade Act of 1974.

TA-W-40,497; Lundeen's Inc., North Platte, NE

TA-W-40,444; Purcell Tire and Rubber Co., Santa Rita, NM

TA-W-39,282 & A,B,C,D,E; Standard Corp., Integrated Logistics, Wilmington, NC, Leland, NC, Kinston, NC, Grifton, NC Charleston, SC and Moncks Corner, SC

The investigation revealed that criteria (2) has not been met. Sales or production did not decline during the relevant period as required for certification.

TA-W-40,684; Independent Tool and Manufacturing, Inc., Meadville, PA

TA-W-40,610; The Goodyear Tire and Rubber Co., Gadsden, AL

Affirmative Determinations for Worker Adjustment Assistance

The following certifications have been issued; the date following the company name and location of each determination references the impact date for all workers of such determination.

TA-W-39,268; Whemco, Machine Shop, Homestead, PA: April 27, 2000

TA-W-39,269; Whemco, Midland, PA: April 27, 2000

TA-W-39,790; Vishay Intertechnologies, Inc., Vishay Cera-Mite Div., Oconto, WI: July 24, 2000

TA-W-40,149; Alphabet Engineer-Design Center, A Div. of Stoneridge, Inc., Cortland, OH: September 1, 2000

TA-W-40,270; Solectron Corp., Research Triangle Park, NC: October 9, 2000

TA-W-40,311; Buckeye Steel Castings Co., Columbus, OH: October 17, 2000

TA-W-40,382; Corning Asahi Video, A Div. of Corning, Inc., State College, PA: October 25, 2000. Chillicothe, OH: September 26, 2000

TA-W-40,409; Bogner of America, Inc., Newport, VT: November 21, 2000

TA-W-40,674 & A; B.B. Walker Co., Asheboro, NC and Bender Shoe Co., Somerset, PA: January 28, 2001

TA-W-40,475; New Holland North America, Inc., CNH Global N.V., Belleville, PA: January 4, 2001

TA-W-40,874; 3M Bedford Park, Industrial Tape and Specialty Div., Bedford Park, IL: January 25, 2001

TA-W-40,930; Prudential Steel, Inc., A Div. of Maverick Tube Co., Longview, WA: February 25, 2001

TA-W-40,436; Dometic Corp., Air Conditioning Line, LaGrange, IN: November 12, 2000

TA-W-40,814; Master Lock Co., A Subsidiary of Fortune Brands, Inc., Milwaukee, WI: January 25, 2001

TA-W-40,792; American Drew, A Div. of Ladd Furniture, Inc., North Wilkesboro, NC: December 5, 2000

TA-W-40,791; Lea Industries, A Div. of Ladd Furniture, Inc., Waynesville, NC: December 5, 2000

TA-W-40,739; Molycorp., Inc., A Subsidiary of Unocal, Questa, NM: January 8, 2001

TA-W-40,683; Vic's Custom Raft Frames, Inc., Grants Pass, OR: December 26, 2000

TA-W-40,648; Domino Amjet, Inc., Gurnee, IL: November 20, 2000

TA-W-40,681; Biokyowa, Inc., A Subsidiary of Kyowa Hakko Kogyo, Ltd, Cape Girardeau, MO: December 12, 2000

TA-W-40,664; Ferro Corp., Cesco Plant, Crooksville, OH: December 6, 2000

TA-W-40,633; Morrison Berkshire, Inc., North Adams, MA: January 15, 2001

TA-W-40,626; Allegheny Tool and Manufacturing Co., Inc., Meadville, PA: November 27, 2000

TA-W-40,625; Crane Pumps and Systems, Decatur, IL: September 26, 2000

TA-W-40,611; Hammond Power Solutions, Inc., Baraboo, WI: January 11, 2001

TA-W-40,571; Moon Tool and Die Co., Inc., Conneaut Lake, PA: October 22, 2000

TA-W-40,565; Environ, Inc., d/b/a Forrester's, Portland, OR: October 26, 2000

TA-W-40,384; K S Bearings, Inc., Greensburg, IN: November 16, 2000

TA-W-40,267; Lamb Technicon, A Div. of Unova, Warren, MI: October 12, 2000

TA-W-40,062; Tradewinds Cleaning Systems, Inc., Neosho, MO: September 4, 2000

TA-W-39,238; Amtec Precision Products, Inc., St. Clair Shores, MI: April 23, 2000

TA-W-40,563A & B; Bestform, Inc., Johnstown Distribution Center, Johnstown, PA and Windber Sewing Facility, Windber, PA: December 14, 2000

TA-W-40,563; Bestform, Inc., Broad Street Sewing Facility, Johnstown, PA: December 22, 2001

TA-W-40,508; Lexington Home Brands, Plant 16, Spruce Pines, NC: October 23, 2000

TA-W-49,442; Sohnen Enterprises, Inc., Santa Fe Springs, CA: May 25, 2000

TA-W-40,413; Mikes, Inc., Rod Shop, South Roxana, IL: November 13, 2000

Also, pursuant to Title V of the North American Free Trade Agreement Implementation Act (P.L. 103-182) concerning transitional adjustment assistance hereinafter called (NAFTA-TAA) and in accordance with section 250(a), Subchapter D, Chapter 2, Title II, of the Trade Act as amended, the Department of Labor presents summaries of determinations regarding eligibility to apply for NAFTA-TAA issued during the month of March, 2002.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat or separation and to the decline in sales or production of such firm or subdivision; or

(4) That there has been a shift in production by such workers' firm or subdivision to Mexico or Canada of articles like or directly competitive with articles which are produced by the firm or subdivision.

Negative Determinations NAFA-TAA

In each of the following cases the investigation revealed that criteria (3) and (4) were not met. Imports from Canada or Mexico did not contribute importantly to workers' separations. There was no shift in production from the subject firm to Canada or Mexico during the relevant period.

NAFTA-TAA-05612A; Dometic Corp., Awning Line, LaGrange, IN

NAFTA-TAA-05379; Diamond Tool and Die, Townville, PA

NAFTA-TAA-05399; Shirts Plus II, Inc., Loretto, TN

NAFTA-TAA-05543; Nokia, Inc., Nokia Networks, Product Operations, Fort Worth TX

NAFTA-TAA-05715; Bilco Manufacturing Corp., Macon, GA

NAFTA-TAA-05372; New Era Textile Parts Co. Ltd, Gastonia, NC

NAFTA-TAA-05874; Bestform, Inc., Windber Cutting Facility, Windber, PA

NAFTA-TAA-05134; Precision Flame, Inc., Bourbonnais, IL

Affirmative Determinations NAFTA-TAA

NAFTA-TAA-05174; Engel Machinery, York, PA: July 6, 2000

NAFTA-TAA-05612; Dometic Corp., Air Conditioning Line, LaGrange, IN: November 12, 2000

NAFTA-TAA-04929; Sohnen Enterprises, Inc., Santa Fe Springs, CA: May 10, 2000

NAFTA-TAA-05018; Michigan Rivet Corp., Div. of McLaughlin Co., Petoskey, MI: June 20, 2000

NAFTA-TAA-05478; Conectl Corp., formerly Preco New Products, Boise, ID: September 19, 2000

NAFTA-TAA-05532; Flextronics International, Palm Habor, FL: November 7, 2000

NAFTA-TAA-05650; Holland Binkley Co., Axle Products Div., Delphos, OH: November 3, 2000

NAFTA-TAA-05744; Hayworth Inc., Holland Wood Plant, Holland, MI: December 4, 2000

NAFTA-TAA-05770; Kolenda Tool and Die, Inc., Wyoming, MI: January 23, 2001

NAFTA-TAA-05818; S-B Power Tool Co., Walnut Ridge, AR: January 28, 2001

NAFTA-TAA-05846; Evy of California, Bakersfield, CA: January 22, 2001

NAFTA-TAA-5860; Arlee Home Fashions, Leachville, AR: February 18, 2001

I hereby certify that the aforementioned determinations were issued during the month of March, 2002. Copies of these determinations are available for inspection in Room C-5311, U.S. Department of Labor, 200 Constitution Avenue, NW., Washington, DC 20210 during normal business hours or will be mailed to persons who write to the above address.

Dated: March 8, 2002.
Edward A. Tomchick,
Director, Division of Trade Adjustment Assistance.

[FR Doc. 02-6670 Filed 3-19-02; 8:45 am]

BILLING CODE 4510-30-M